DEPARTMENT OF TRANSPORTATION

Federal Railroad Administration

[Docket No. FRA-2015-0007-N-33]

Agency Request for Emergency Processing of Collection of Information by the Office of Management and Budget

AGENCY: Federal Railroad Administration (FRA), United States Department of Transportation (USDOT).

ACTION: Notice.

SUMMARY: FRA hereby gives notice that it is submitting the following Information Collection request (ICR) to the Office of Management and Budget (OMB) for Emergency Processing under the Paperwork Reduction Act of 1995. FRA requests that OMB authorize the collection of information identified below seven days after publication of this Notice for a period of 180 days.

FOR FURTHER INFORMATION CONTACT: A copy of this individual ICR, with applicable supporting documentation, may be obtained by telephoning FRA's Office of Safety Information Collection Clearance Officer, Robert Brogan (tel. (202) 493-6292), or FRA's Office of Administration Clearance Information Collection Officer, Kimberly Toone (tel. (202) 493-6132); these numbers are not toll-free; or by contacting Mr. Brogan via facsimile at (202) 493-6216 or Ms. Toone via facsimile at (202) 493-6497, or via email by contacting Mr. Brogan at Robert.Brogan@dot.gov; or by contacting Ms. Toone at Kim.Toone@dot.gov. Comments and questions about the ICR identified below should be directed to OMB's Office of Information and Regulatory Affairs, Attn: FRA OMB Desk Officer.

SUPPLEMENTARY INFORMATION: The recently enacted Positive Train Control Enforcement and Implementation (PTCEI) Act and The Fixing America's Surface Transportation (FAST) Act (collectively, the “Acts”) amend certain portions of 49 U.S.C. 20157 relating to positive train control (PTC) system implementation. Most notably, the provisions within these Acts extend the implementation deadline originally established by the Rail Safety Improvement Act of 2008 (RSIA) and require covered railroads to each submit a revised PTC Implementation Plan (PTCIP) with additional information to meet its new deadline.

The Federal Railroad Administration (FRA) is proposing to provide a revised PTCIP template to assist each railroad pursuant to the new law. More specifically, each railroad may voluntarily opt to use FRA's proposed template to concisely organize and present certain quantitative (i.e. measurable) data relating to its PTC implementation efforts, and its projected timeframe for completing PTC implementation. Although some of this information may have been provided by each railroad in the past, the Acts now require submission of specific measurable data as part of each railroad's revised PTCIP. This information includes, but is not limited to:

• The calendar year(s) when wireless spectrum required for PTC operation will be acquired and available for use;

• The total amount of PTC hardware the railroad must install (broken down by each major hardware category);

• The total amount of PTC hardware the railroad must install by the end of each calendar year (broken down by each major hardware category);

• The total number of employees the railroad must train; and

• The total number of employees that will receive training by the end of each calendar year.

FRA believes that providing a template will serve as guidance to railroads by reducing confusion as to the necessarily level of detail required. Further, the template will help to expedite the conveyance of this information, and FRA's review for statutory and regulatory compliance, particularly for those railroads that may not have been tracking these details previously. FRA intends to provide the template on its Web site for use by all interested parties.

As provided under 49 CFR 1320.13, FRA is requesting Emergency processing for this new collection of information as specified in the Paperwork Reduction Act of 1995 and its implementing regulations. FRA cannot reasonably comply with normal clearance procedures since they would be reasonably likely to disrupt the collection of information. Each railroad is required to submit its revised PTCIP by January 27, 2016. FRA cannot wait the typical 90-day period for public comment. Therefore, FRA is requesting OMB approval as soon as possible (i.e., 7 days after publication of this Notice) for this collection of information.

The associated collection of information is summarized below.

Title: PTC Implementation Plan (PTCIP) Template.

Reporting Burden:

PTCIP Template | Respondent universe | Total annual responses | Average time per response | Total annual burden hours
Form FRA F 6180.164 | 38 Railroads | 38 Forms 0 | 50 hours | 1,900 hours.

Form Number(s): FRA F 6180.164.

Respondent Universe: 38 Railroads.

Frequency of Submission: One-time; on occasion.

Total Estimated Responses: 38.

Total Estimated Annual Burden: 1,900 hours.

Status: Emergency Review.

Pursuant to 44 U.S.C. 3507(a) and 5 CFR 320.5(b), 1320.8(b)(3)(vi), FRA informs all interested parties that it may not conduct or sponsor, and a respondent is not required to respond to, a collection of information unless it displays a currently valid OMB control number.

Authority: 44 U.S.C. 3501-3520.

Issued in Washington, DC, on December 22, 2015.
Corey Hill,
Acting Executive Director.

[FR Doc. 2015-32617 Filed 12-24-15; 8:45 am]

BILLING CODE 4910-06-P